Memorandum of August 12, 2016

Designation of Officers of the Office of Personnel Management To Act as Director of the Office of Personnel Management

Memorandum for the Director of the Office of Personnel Management

By the authority vested in me as President by the Constitution and the laws of the United States of America, including the Federal Vacancies Reform Act of 1998, as amended, 5 U.S.C. 3345 et seq. (the “Act”), it is hereby ordered that:

Section 1. Order of Succession. Subject to the provisions of section 2 of this memorandum and to the limitations set forth in the Act, the following officials of the Office of Personnel Management (OPM), in the order listed, shall act as and perform the functions and duties of the Director of OPM (Director) during any period in which both the Director and the Deputy Director of OPM have died, resigned, or otherwise become unable to perform the functions and duties of the office of Director:

(a) General Counsel;

(b) Chief of Staff;

(c) Chief Management Officer;

(d) Chief Financial Officer;

(e) Associate Director, Employee Services;

(f) Associate Director, Retirement Services; and

(g) Other Associate Directors in the order in which they have been appointed as such.

Sec. 2. Exceptions. (a) No individual who is serving in an office listed in section 1(a)-(g) in an acting capacity, by virtue of so serving, shall act as Director pursuant to this memorandum.

(b) No individual listed in section 1(a)-(g) shall act as Director unless that individual is otherwise eligible to so serve under the Act.

(c) Notwithstanding the provisions of this memorandum, the President retains discretion, to the extent permitted by law, to depart from this memorandum in designating an acting Director.

Sec. 3. Revocation. Presidential Memorandum of May 21, 2012 (Designation of Officers of the Office of Personnel Management to Act as Director of the Office of Personnel Management), is hereby revoked.

Sec. 4. General Provisions. (a) This memorandum is not intended to, and does not, create any right or benefit, substantive or procedural, enforceable at law or in equity by any party against the United States, its departments, agencies, or entities, its officers, employees, or agents, or any other person.

(b) You are authorized and directed to publish this memorandum in the Federal Register.

THE WHITE HOUSE,

Washington, August 12, 2016

[FR Doc. 2016-19726

Filed 8-16-16; 8:45 am]

Billing code 6325-01-P